DEPARTMENT OF HOMELAND SECURITY

Bureau of Customs and Border Protection

Automated Commercial Environment (ACE); Expansion of Processes Supported in the ACE Truck Manifest System

AGENCY: Customs and Border Protection, Department of Homeland Security.

ACTION: General notice.

SUMMARY: This document announces that Customs and Border Protection (CBP) has expanded the processes that are supported in the Automated Commercial Environment (ACE) Truck Manifest System. Previously, CBP did not possess the capability for the electronic release of cargo off the manifest for certain release types. Now, through the collection of cargo information through ACE, electronic release of the cargo can be accommodated for the following release types: General Note 1 Exemptions as provided in General Note 3(e) of the Harmonized Tariff Schedules of the United States; Free of Duty (CBP Form 7523); Unaccompanied Goods (CBP Form 3299); and Free Returned U.S. Goods (CBP Form 3311).

DATES: Truck carriers will be able to take advantage of the additional processes supported in ACE beginning on the date of publication of this notice.

FOR FURTHER INFORMATION CONTACT: Mr. James Swanson, via e-mail at james.d.swanson@dhs.gov.

SUPPLEMENTARY INFORMATION:

Background

ACE Truck Manifest Test

On February 4, 2004 and September 13, 2004, CBP published notices in the Federal Register (69 FR 5360 and 69 FR 55167) announcing a test, in conjunction with the Federal Motor Carrier Safety Administration (FMCSA), allowing participating truck carriers to transmit electronic manifest data in ACE, including advance cargo information as required by section 343(a) of the Trade Act of 2002, as amended by the Maritime Transportation Security Act of 2002 (see 68 FR 68140). The advance cargo information requirements are detailed in the final rule published in the Federal Register at 68 FR 68140 on December 5, 2003.

Truck carriers participating in the test were required to establish ACE Secure Data Portal (ACE Portal) Truck Carrier Accounts which would provide them with the ability to electronically transmit truck manifest data and obtain release of their cargo, crew, conveyances, and equipment via the ACE Portal or electronic data interchange (EDI) messaging.

In the September 13, 2004 notice, CBP stated that, in order to be eligible for participation in this test, a carrier must have:

1. Submitted an application (i.e., statement of intent to establish an ACE Account and to participate in the testing of electronic truck manifest functionality) as set forth in the February 4, 2004, Federal Register notice (69 FR 5360);

2. Provided a Standard Carrier Alpha Code(s) (SCAC);

3. Provided the name, address, and e-mail of a point of contact to receive further information.

In addition, participants intending to use the ACE Portal as the means to file the manifest were required to submit a statement certifying the ability to connect to the Internet. Participants intending to use an EDI interface were required to first test their ability to send and receive electronic messages in either American National Standards Institute (ANSI) X12 or United Nations/Directories for Electronic Data Interchange for Administration, Commerce and Transport (UN/EDIFACT) format with CBP.

Subsequently, in a Federal Register notice published on March 29, 2006 (71 FR 15756), CBP announced a change advising truck carriers that they were no longer required to open ACE Truck Carrier [Portal] Accounts to participate in the ACE test. Specifically, truck carriers were advised that they could elect to use a third party to submit electronic manifest information to CBP via EDI. Truck carriers participating in this fashion do not have access to operational data and do not receive status messages on ACE Accounts, nor do they have access to integrated Account data from multiple system sources. These truck carriers are able to obtain release of their cargo, crew, conveyances, and equipment via EDI messaging back to the transmitter of the information. A truck carrier using a third party to transmit via EDI cargo, crew, conveyance and equipment information to CBP is required to have a Standard Carrier Alpha Code (SCAC). Any truck carrier with a SCAC may arrange to have a third party transmit manifest information to CBP via EDI consistent with the requirements of the ACE Truck Manifest Test. Due to limited functionality available via the portal at that time, truck carriers were advised that if they elected to use a third party to transmit the truck manifest information to CBP via the ACE portal (rather than EDI), the truck carrier who is submitting that information to the third party (for transmission to CBP) would be required to have an ACE Truck Carrier Account as described in the February 4, 2004, notice.

In a notice published in the Federal Register on March 15, 2007 (72 FR 12181), CBP announced that truck carriers participating in the ACE portal test and electing to use third parties to submit manifest information to CBP via the ACE portal are no longer required to have ACE portal accounts. Thus, truck carriers without ACE portal accounts, while participating in the test of the ACE truck manifest system, may now use third parties (such as Customs brokers or other truck carriers) with ACE portal accounts to electronically transmit truck manifest information, via the ACE portal, on their behalf.

Release Types

Previously, CBP did not possess the capability for the electronic release of cargo off the manifest for certain release types. Now, through the collection of cargo information through ACE, electronic release of the cargo can be accommodated for the following release types: General Note 1 Exemptions as provided in General Note 3(e) of the Harmonized Tariff Schedules of the United States; Free of Duty; Unaccompanied Goods; and Free Returned U.S. Goods. When applicable, the appropriate CBP forms, noted below in parenthesis for each release type, and supporting documentation are required to effectuate release of the cargo.

General Note 1 Exemptions

A General Note 1 Exemption release can be used for goods imported into the customs territory of the United States that are exempt from the provisions of the tariff schedule per General Note 3(e) of the Harmonized Tariff Schedule of the United States. Such goods qualifying for this exemption are as follows: Corpses, together with their coffins and accompanying flowers; telecommunications transmissions; records, diagrams and other data with regard to any business, engineering or exploration operation whether on paper; cards, photographs, blueprints, tapes or other media; articles returned from space within the purview of section 484a of the Tariff Act of 1930; articles exported from the United States which are returned within 45 days after such exportation from the United States as undeliverable and which have not left the custody of the carrier or foreign customs service; and any aircraft part or equipment that was removed from a United States-registered aircraft while being used abroad in international traffic because of accident, breakdown, or emergency, that was returned to the United States within 45 days after removal, and that did not leave the custody of the carrier or foreign customs service while abroad.

Free of Duty (CBP Form 7523)

Pursuant to the provisions of 19 CFR 143.23(d), a CBP Form 7523 (Free of Duty) can be used for the release of shipments not exceeding $2,000 in value which are either unconditionally free of duty and not subject to any quota or internal revenue tax, or are conditionally free and all conditions for free entry are met at the time of entry. Pursuant to the provisions of 19 CFR 143.23(g), shipments, regardless of value, which are imported for noncommercial purposes which qualify for entry free of duty under the Generalized System of Preferences and for which informal entry may be made can be released on a CBP Form 7523.

Unaccompanied Goods (CBP Form 3299)

A CBP Form 3299 (Unaccompanied Goods) can be used for the release of effects that are claimed to be free of duty under subheadings 9804.00.10, 9804.00.20, 9804.00.25, 9804.00.35, or 9804.00.45, Harmonized Tariff Schedule of the United States (HTSUS), that do not accompany the importer on his arrival in the United States or are forwarded in bond, pursuant to the provisions of 19 CFR 148.6. It may also be used for release of household effects used abroad and claimed to be free of duty under subheading 9804.00.05, pursuant to the provisions of 19 CFR 148.52, or tools of trade claimed to be free of duty under subheadings 9804.00.10 or 9804.00.15, pursuant to the provisions of 19 CFR 148.53.

Free Returned U.S. Goods (CBP Form 3311)

A CBP Form 3311 (Free Returned U.S. Goods) release can be used for certain shipments of products of the United States being returned without having been advanced in value or improved in condition abroad in accordance with the provisions of 19 CFR 123.4(c) or 19 CFR 143.23(b) and 19 CFR 10.1.

Previous Notices Continue To Be Applicable

All of the other aspects of the ACE Truck Manifest Test as set forth in 69 FR 55167, as modified by the General Notice published in the Federal Register (70 FR 13514) on March 21, 2005, continue to be applicable. (The March 21, 2005 notice clarified that all relevant data elements are required to be submitted in the automated truck manifest submission.) All of the aspects of the February 4, 2004, notice (69 FR 5360) continue to be applicable, except as revised in this notice.

Date: August 15, 2007.
Denise Crawford,
Acting Assistant Commissioner, Office of Field Operations.

[FR Doc. E7-16343 Filed 8-17-07; 8:45 am]

BILLING CODE 9111-14-P